NUCLEAR REGULATORY COMMISSION

[Docket No. 50-461]

Amergen Energy Company, LLC; Notice of Partial Withdrawal of Application for Amendment to Facility Operating License

The U.S. Nuclear Regulatory Commission (the Commission) has granted the request of AmerGen Energy Company, LLC (the licensee), to withdraw part of its May 21, 2001, application for proposed amendment to Facility Operating License No. NPF-62 for the Clinton Power Station, Unit No. 1, located in DeWitt County, Illinois.

The amendment application proposed revising the Technical Specifications to allow alternate actions if the refueling equipment interlocks become inoperable and to increase the frequency of the refueling equipment interlock inputs channel functional test from 7 to 31 days. In partial response to the licensee's request, the NRC staff issued an amendment dated April 4, 2002, approving the alternate actions if the refueling equipment interlocks become inoperable. The request to revise the frequency of the refueling equipment interlock inputs channel functional test was not addressed in that license amendment.

The Commission had previously issued a Notice of Consideration of Issuance of Amendment published in the Federal Register on December 26, 2001 (66 FR 66463). However, by letter dated July 16, 2002, the licensee withdrew the portion of the proposed change pertaining to the channel functional test frequency.

For further details with respect to this action, see the application for amendment dated May 21, 2001, the license amendment dated April 4, 2002, and the licensee's letter dated July 16, 2002, which withdrew part of the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, or 301-415-4737 or by e-mail to pdr@nrc.gov.

Dated at Rockville, Maryland, this 5th day of August 2002.
For the Nuclear Regulatory Commission.
Jon B. Hopkins,
Senior Project Manager, Section 2, Project Directorate III, Division of Licensing Project Management, Office of Nuclear Reactor Regulation.

[FR Doc. 02-20174 Filed 8-8-02; 8:45 am]

BILLING CODE 7590-01-P